SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: January 1 through January 31, 2014.

ADDRESSES: Susquehanna River Basin Commission, 4423 North Front Street, Harrisburg, PA 17110-1788.

FOR FURTHER INFORMATION CONTACT: Richard A. Cairo, General Counsel, telephone: (717) 238-0423, ext. 1306; fax: (717) 238-2436; email: rcairo@srbc.net. Regular mail inquiries may be sent to the above address.

SUPPLEMENTARY INFORMATION: This notice lists the projects, described below, receiving approval for the consumptive use of water pursuant to the Commission's approval by rule process set forth in 18 CFR § 806.22(f) for the time period specified above:

Approvals by Rule Issued Under 18 CFR 806.22(f):

1. SWEPI LP, Pad ID: Hickock 114, ABR-201401001, Canton Township, Bradford County, Pa.; Consumptive Use of Up to 4.000 mgd; Approval Date: January 2, 2014.

2. Cabot Oil & Gas Corporation, Pad ID: Heitsman P1, ABR-20090537.R1, Dimock Township, Susquehanna County, Pa.; Consumptive Use of Up to 3.575 mgd; Approval Date: January 2, 2014.

3. Cabot Oil & Gas Corporation, Pad ID: Ratzel P1, ABR-20090539.R1, Dimock Township, Susquehanna County, Pa.; Consumptive Use of Up to 3.575 mgd; Approval Date: January 2, 2014.

4. Cabot Oil & Gas Corporation, Pad ID: Gesford P1, ABR-20090547.R1, Dimock Township, Susquehanna County, Pa.; Consumptive Use of Up to 3.575 mgd; Approval Date: January 2, 2014.

5. Cabot Oil & Gas Corporation, Pad ID: Rozanski P1, ABR-20090553.R1, Dimock Township, Susquehanna County, Pa.; Consumptive Use of Up to 3.575 mgd; Approval Date: January 2, 2014.

6. Southwestern Energy Production Company, Pad ID: WY-01 Robinson Albert Tr Pad, ABR-201401002, Tunkhannock Township, Wyoming County, Pa.; Consumptive Use of Up to 4.999 mgd; Approval Date: January 3, 2014.

7. SWEPI LP, Pad ID: Brumwell 657 revised, ABR-201401003, Richmond Township, Tioga County, Pa.; Consumptive Use of Up to 4.000 mgd; Approval Date: January 3, 2014.

8. WPX Energy Appalachia, LLC, Pad ID: Webster-1, ABR-20090401.R1, Franklin Township, Susquehanna County, Pa.; Consumptive Use of Up to 4.000 mgd; Approval Date: January 6, 2014.

9. Anadarko E&P Onshore, LLC, Pad ID: COP Tract 653 (1001H), ABR-20090414.R1, Beech Creek Township, Clinton County, Pa.; Consumptive Use of Up to 5.000 mgd; Approval Date: January 7, 2014.

10. Anadarko E&P Onshore, LLC, Pad ID: COP Tract 653 (1002H), ABR-20090415.R1, Beech Creek Township, Clinton County, Pa.; Consumptive Use of Up to 5.000 mgd; Approval Date: January 7, 2014.

11. Anadarko E&P Onshore, LLC, Pad ID: Penn State Forest Tr 289 #1, ABR-20090409.R1, Mchenry Township, Lycoming County, Pa.; Consumptive Use of Up to 4.000 mgd; Approval Date: January 8, 2014.

12. WPX Energy Appalachia, LLC, Pad ID: Powers Pad Site, ABR-20090511.R1, Forest Lake Township, Susquehanna County, Pa.; Consumptive Use of Up to 3.000 mgd; Approval Date: January 14, 2014.

13. WPX Energy Appalachia, LLC, Pad ID: Ivey Pad Site, ABR-20090608.R1, Forest Lake Township, Susquehanna County, Pa.; Consumptive Use of Up to 3.000 mgd; Approval Date: January 14, 2014.

14. Anadarko E&P Onshore, LLC, Pad ID: C.O.P. Tract 231 (1000), ABR-20090406.R1, Boggs Township, Centre County, Pa.; Consumptive Use of Up to 4.000 mgd; Approval Date: January 21, 2014.

15. Cabot Oil & Gas Corporation, Pad ID: SquierR P1, ABR-201401004, Brooklyn and New Milford Townships, Susquehanna County, Pa.; Consumptive Use of Up to 4.250 mgd; Approval Date: January 24, 2014.

16. Southwestern Energy Production Company, Pad ID: WY 03 DK LUMBER PAD, ABR-201401005, Tunkhannock Township, Wyoming County, Pa.; Consumptive Use of Up to 4.999 mgd; Approval Date: January 24, 2014.

17. Chief Oil & Gas LLC, Pad ID: Rogers Drilling Pad, ABR-201401006, Lenox Township, Susquehanna County, Pa.; Consumptive Use of Up to 2.500 mgd; Approval Date: January 24, 2014.

18. Southwestern Energy Production Company, Pad ID: NR-15-HUGHES-PAD, ABR-201401007, Great Bend Township, Susquehanna County, Pa.; Consumptive Use of Up to 4.999 mgd; Approval Date: January 29, 2014.

19. Chesapeake Appalachia, LLC, Pad ID: Dingo, ABR-201401008, Cherry Township, Sullivan County, Pa.; Consumptive Use of Up to 7.50 mgd; Approval Date: January 29, 2014.

20. Southwestern Energy Production Company, Pad ID: WY 04 DIMMING PAD, ABR-201401009, Forkston Township, Wyoming County, Pa.; Consumptive Use of Up to 4.999 mgd; Approval Date: January 29, 2014.

21. Southwestern Energy Production Company, Pad ID: NR-18-OAK RIDGE-PAD, ABR-201401010, Great Bend Township, Susquehanna County, Pa.; Consumptive Use of Up to 4.999 mgd; Approval Date: January 29, 2014.

22. Talisman Energy USA, Pad ID: Klein R, ABR-20090810.R1, Armenia Township, Bradford County, Pa.; Consumptive Use of Up to 3.000 mgd; Approval Date: January 29, 2014.

23. Talisman Energy USA, Pad ID: DCNR 587 Pad #2, ABR-20090811.R1, Ward Township, Tioga County, Pa.; Consumptive Use of Up to 3.000 mgd; Approval Date: January 29, 2014.

24. Talisman Energy USA, Pad ID: DCNR 587 Pad #4, ABR-20090812.R1, Ward Township, Tioga County, Pa.; Consumptive Use of Up to 3.000 mgd; Approval Date: January 29, 2014.

Authority: Pub. L. 91-575, 84 Stat. 1509 et seq., 18 CFR Parts 806, 807, and 808.

Dated: April 9, 2014.
Stephanie L. Richardson,
Secretary to the Commission.

[FR Doc. 2014-08599 Filed 4-15-14; 8:45 am]

BILLING CODE 7040-01-P